DEPARTMENT OF AGRICULTURE

Farm Service Agency

Information Collection; Direct Loan Making

AGENCY: Farm Service Agency, USDA.

ACTION: Notice; request for comments.

SUMMARY: In accordance with the Paperwork Reduction Act (PRA) of 1995, the Farm Service Agency (FSA) is requesting comments from all interested individuals and organizations on a revision and an extension of a currently approved information collection that supports 7 CFR part 764. The Direct Loan Making regulations specify the application process and requirements for direct loan assistance. FSA is adding additional information collection to the existing collection to reflect the addition of the Direct Farm Ownership Microloan (DFOML). The collected information is used in eligibility and feasibility determinations on farm loan applications.

DATES: We will consider comments that we receive by December 7, 2015.

ADDRESSES: We invite you to submit comments on this notice. In your comments, include date, volume, and page number of this issue of the Federal Register. You may submit comments by any of the following methods:

• Federal eRulemaking Portal: Go to www.regulations.gov. Follow the online instructions for submitting comments.

• Mail: Russ Clanton, Branch Chief, Direct Loan Making and Funds Management, USDA/FSA/FLP, STOP 0523, 1400 Independence Avenue SW., Washington, DC 20250-0503.

You may also send comments to the Desk Officer for Agriculture, Office of Information and Regulatory Affairs, Office of Management and Budget, Washington, DC 20503. Copies of the information collection may be requested by contacting Russ Clanton at the above address.

FOR FURTHER INFORMATION CONTACT: Russ Clanton, (202) 690-0214.

SUPPLEMENTARY INFORMATION: Title: Farm Loan Programs, Direct Loan Making.

OMB Number: 0560-0237.

Expiration Date: 02/29/2016.

Type of Request: Revision and Extension.

Abstract: FSA's Farm Loan Programs provide loans to family farmers to purchase real estate and equipment, and to finance agricultural production. Direct Loan Making regulations at 7 CFR part 764 provide the requirements and process for determining an applicant's eligibility for a direct loan.

Several changes are being made in the estimates for the burden hours and the number of respondents in anticipation of the new DFOML, which will be implemented through rulemaking. FSA anticipates an increase in the use of the forms. Also, the burden hours have changed due to the removal of the existing collection, which was previously included in error. The specific changes are explained below.

There will be no new or revised forms for DFOMLs. With the planned addition of the DFOML and the new applicants expected to apply for these real estate microloans, FSA anticipates the total burden hours for Direct Loan Making increasing by 1,725 hours. The anticipated 3,530 burden hours for DFOML takes into account the number of regular FO applications normally received for loan requests of $50,000 or less, which have a reduced application process and paperwork burden. The hours for the Land Contract Guarantee Program and Emergency Equine Loss Loan Program, previously merged into the Direct Loan Making total burden hours, have been removed from the collection as they are already accounted for in other existing information collections. Also, the Farm Storage Facility Loan Program is exempted from PRA as specified in 2014 Farm Bill; therefore, those numbers are no longer included in the collection.

The annual number of responses decreased by 12,751, while the number of respondents increases by 172 in the collection. The annual burden hours increase by 1,725 hours in the collection.

The formula used to calculate the total burden hour is estimated average time per response in hours times total annual responses.

Estimate of Respondent Burden: Public reporting burden for the information collection is estimated to average 0.503851 hours per response. The average travel time, which is included in the total burden, is estimated to be 1 hour.

Respondents: Individuals or households, businesses or other for profit farms.

Estimated Annual Number of Respondents: 182,433.

Estimated Number of Reponses per Respondent: 3.8.

Estimated Total Annual Responses: 685,686.

Estimated Average Time per Response: 0.503851 hours.

Estimated Total Annual Burden on Respondents: 345,484 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Val Dolcini,
Administrator, Farm Service Agency.

[FR Doc. 2015-25425 Filed 10-6-15; 8:45 am]

BILLING CODE 3410-05-P